DEPARTMENT OF COMMERCE

National Oceanic and Atmospheric Administration

50 CFR Part 679

[Docket No. 240227-0061 and 240304-0068; RTID 0648-XD758]

Fisheries of the Exclusive Economic Zone Off Alaska; Sablefish Managed Under the Individual Fishing Quota Program

AGENCY: National Marine Fisheries Service (NMFS), National Oceanic and Atmospheric Administration (NOAA), Commerce.

ACTION: Temporary rule; opening.

SUMMARY: NMFS is opening directed fishing for sablefish with fixed gear managed under the Individual Fishing Quota (IFQ) Program and the Community Development Quota (CDQ) Program. The season will open 1200 hours, Alaska local time (A.l.t.), March 15, 2024, and will close 1200 hours, A.l.t., December 7, 2024. This period is the same as the 2024 commercial halibut fishery opening dates adopted by the International Pacific Halibut Commission, except the hours are not the same. The IFQ and CDQ halibut season dates are the same as specified by a separate publication in the Federal Register of annual management measures, which should be referenced for the halibut specific open and closure times.

DATES: Effective 1200 hours, A.l.t., March 15, 2024, until 1200 hours, A.l.t., December 7, 2024.

FOR FURTHER INFORMATION CONTACT: Adam Zaleski, 907-586-7228.

SUPPLEMENTARY INFORMATION: Beginning in 1995, fishing for Pacific halibut and sablefish with fixed gear in the IFQ regulatory areas defined in 50 CFR 679.2 has been managed under the IFQ Program. The IFQ Program is a regulatory regime designed to promote the conservation and management of these fisheries and to further the objectives of the Magnuson-Stevens Fishery Conservation and Management Act and the Northern Pacific Halibut Act. Persons holding quota share receive an annual allocation of IFQ. Persons receiving an annual allocation of IFQ are authorized to harvest IFQ species within specified limitations. Further information on the implementation of the IFQ Program, and the rationale supporting it, are contained in the preamble to the final rule implementing the IFQ Program published in the Federal Register, November 9, 1993 (58 FR 59375) and subsequent amendments.

This announcement is consistent with § 679.23(g)(1), which requires that the directed fishing season for sablefish managed under the IFQ Program be specified by the Administrator, Alaska Region, and announced by publication in the Federal Register. This method of season announcement was selected to facilitate coordination between the sablefish season, chosen by the Administrator, Alaska Region, and the halibut season, adopted by the International Pacific Halibut Commission (IPHC). The directed fishing season for sablefish with fixed gear managed under the IFQ Program will open 1200 hours, A.l.t., March 15, 2024, and will close 1200 hours, A.l.t., December 7, 2024. This period runs concurrently with the IFQ season for Pacific halibut announced by the IPHC, except the hours are not the same. The IFQ and CDQ halibut season will be specified by a separate publication in the Federal Register of annual management measures pursuant to 50 CFR 300.62.

There is a difference in the time of day for opening and closing the halibut IFQ and CDQ commercial fishery and the Alaska IFQ and CDQ sablefish commercial fishery. IPHC regulations open the halibut IFQ and CDQ fishery at 0600 hours on March 15, 2024, and NMFS will open the Alaska IFQ and CDQ sablefish fishery at 1200 hours on March 15, 2024. Therefore, if gear is deployed to fish for halibut in the commercial fishery of Alaska before 1200 hours on March 15, 2024, then IFQ or CDQ sablefish caught from that deployment may not be retained. If a vessel operator holds both halibut and sablefish IFQ or CDQ, and the operator intends to retain sablefish on March 15, then the vessel should deploy its commercial fishing gear after 1200 hours.

IPHC regulations close the halibut IFQ and CDQ fishery at 2359 hours on December 7, 2024, and NMFS will close the Alaska IFQ and CDQ sablefish fishery at 1200 hours on December 7, 2024. Therefore, if gear is deployed to fish for halibut in the commercial fishery off Alaska after 1200 hours on December 7, 2024, then IFQ and CDQ sablefish caught from that deployment may only be retained up to the Maximum Retainable Amount (MRA). If a vessel operator holds both halibut and sablefish IFQ or CDQ, and the operator intends to retain sablefish on December 7, 2024, after 1200 hours then the vessel may only retain IFQ or CDQ sablefish in accordance with the MRA regulations at § 679.20(e).

Classification

NMFS issues this action pursuant to section 305(d) of the Magnuson-Stevens Act. This action is required by 50 CFR part 679, which was issued pursuant to section 304(b), and is exempt from review under Executive Order 12866.

Pursuant to 5 U.S.C. 553(b)(B), there is good cause to waive prior notice and an opportunity for public comment on this action, as notice and comment would be impracticable and contrary to the public interest, as it would delay the opening of the sablefish fishery thereby increasing bycatch and regulatory discards between the sablefish fishery and the halibut fishery, and prevent the accomplishment of the management objective for simultaneous opening of these two fisheries. NMFS was unable to publish a notice providing time for public comment because the most recent, relevant data only became available as of March 11, 2024.

The Assistant Administrator for Fisheries, NOAA also finds good cause to waive the 30-day delay in the effective date of this action under 5 U.S.C. 553(d)(3). This finding is based upon the reasons provided above for waiver of prior notice and opportunity for public comment.

Authority: 16 U.S.C. 1801 et seq.

Dated: March 12, 2024.
Everett Wayne Baxter,
Acting Director, Office of Sustainable Fisheries, National Marine Fisheries Service.

[FR Doc. 2024-05680 Filed 3-14-24; 8:45 am]

BILLING CODE 3510-22-P